DEPARTMENT OF COMMERCE

Foreign-Trade Zones Board

(Docket 49-2005)

Foreign-Trade Zone 22 -- Chicago, Illinois, Area, Application for Expansion

An application has been submitted to the Foreign-Trade Zones (FTZ) Board (the Board), by the Illinois International Port District, grantee of FTZ 22, requesting authority to expand its zone in the Chicago area, within and adjacent to the Chicago Customs port of entry. The application was submitted pursuant to the provisions of the Foreign-Trade Zones Act, as amended (19 U.S.C. 81a-81u), and the regulations of the Board (15 CFR Part 400). It was formally filed on October 14, 2005.

FTZ 22 was approved on October 29, 1975 (Board Order 108, 40 FR 51242, 11/4/75) and expanded on April 9, 1987 (Board Order 353, 52 FR 12217, 4/15/87); on December 11, 1992 (Board Order 614, 57 FR 61044, 12/23/92); on November 21, 2000 (Board Order 1127, 65 FR 76218, 12/6/00); on December 19, 2003 (Board Order 1313, 69 FR 49, 1/2/04); and, on May 9, 2005 (Board Order 1390, 70 FR 29276, 5/20/05).

The general-purpose zone project currently consists of (2,998 acres) in the Chicago area: Site 1 (19 acres) -- within the Port's 2,250-acre Lake Calumet Harbor terminal facility; Site 2 (578 acres) -- industrial park at One Diversatech Drive, Manteno; Site 3 (8 acres) -- Gotoh Distribution Services, Inc., warehouse facility located at 703 Foster Avenue, Bensonville; Site 4 (8 acres) -- Meiko America Inc. warehouse facility located at Gerry Drive and Hansen Court, Wood Dale; Site 5 (2,029 acres) -- CenterPoint Intermodal Center, located east of Interstate 55 and south of Arsenal Road, Village of Elwood; Site6 (317 acres) -- within the 371-acre Rock Run Business Park located in the northwest quadrant of Houbolt Road and Interstate 80, Joliet; and, Temporary Site 7 (39 acres) -- within the O'Hare Express North Industrial Park, 893 Upper Express Drive, Chicago.

The applicant is now requesting authority to expand the general-purpose zone to include four additional sites in the area: Proposed Site 8 (142 acres) -- within the 187-acre ProLogis Park 80, located north of Interstate 80 and west of Highway 47, Morris (Grundy County); Proposed Site 9 (12 acres) -- Eagle Global Logistics facility (within the Centex Industrial Park), 1717 Busse Road, Elk Grove Village (Cook County); Proposed Site 10 (43 acres) -- Bolingbrook Distribution Center, 1701 Remington Boulevard, Bolingbrook (Will County); and, Proposed Site 11 (157 acres, 2 parcels) -- Heartland Corporate Center, 21228 SW Frontage Road, Shorewood (Will County). The applicant is also requesting that 41 acres at Site 5 (CenterPoint Intermodal Center) be restored to zone status and that Temporary Site 7 (39 acres) be granted zone status on a permanent basis. (A minor boundary modification was approved on January 11, 2005 (A(27f)-2-2005), removing 41 acres from Site 5 to establish the temporary site.) The sites will be used primarily for warehousing and distribution activities. The owners of the sites are ProLogis, Eagle Global Logistics, LIT Industrial Limited Partnership, and CenterPoint Properties. No specific manufacturing authority is being requested at this time. Such requests would be made on a case-by-case basis.

In accordance with the Board's regulations, a member of the FTZ Staff has been designated examiner to investigate the application and report to the Board.

Public comment on the application is invited from interested parties. Submissions (original and 3 copies) shall be addressed to the Board's Executive Secretary at one of the following addresses:

1. Submissions via Express/Package Delivery Services: Foreign-Trade Zones Board, U.S. Department of Commerce, Franklin Court Building-Suite 4100W, 1099 14th Street, NW, Washington, DC 20005; or,

2. Submissions via the U.S. Postal Service: Foreign-Trade Zones Board, U.S. Department of Commerce, FCB-Suite 4100W, 1401 Constitution Avenue, NW, Washington, DC 20230.

The closing period for their receipt is December 23, 2005. Rebuttal comments in response to material submitted during the foregoing period may be submitted during the subsequent 15-day period (to January 9, 2006).

A copy of the application and accompanying exhibits will be available during this time for public inspection at the address Number 1 listed above, and at the U.S. Department of Commerce Export Assistance Center, 55 West Monroe Street, Suite 2400, Chicago, IL 60603.

October 14, 2005.
Dennis Puccinelli,
Executive Secretary.

[FR Doc. 05-21217 Filed 10-21-05; 8:45 am]

Billing Code: 3510-DS-S